NUCLEAR REGULATORY COMMISSION

Agency Information Collection Activities: Proposed Collection; Comment Request

AGENCY: U.S. Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: NRC Forms 540 and 540A, “Uniform Low-Level Radioactive Waste Manifest (Shipping Paper) and Continuation Page;” NRC Forms 541 and 541A, “Uniform Low-Level Radioactive Waste Manifest, Container and Waste Description, and Continuation Page;” NRC Forms 542 and 542A, “Uniform Low-Level Radioactive Waste Manifest, Index and Regional Compact Tabulation.”

2. Current OMB approval number: 3150-0164 for NRC Forms 540 and 540A; 3150-0166 for NRC Forms 541 and 541A; and 3150-0165 for NRC Forms 542 and 542A.

3. How often the collection is required: Forms are used by shippers whenever radioactive waste is shipped. Quarterly or less frequent reporting is made to NRC depending on specific license conditions.

4. Who is required or asked to report: All NRC-licensed low-level waste facilities. All generators, collectors, and processors of low-level waste intended for disposal at a low-level waste facility must complete the appropriate forms.

5. The number of annual respondents:

NRC Forms 540 and 540A: 2,500 licensees.

NRC Forms 541 and 541A: 2,500 licensees.

NRC Forms 542 and 542A: 22 licensees.

6. The number of hours needed annually to complete the requirement or request:

NRC Forms 540 and 540A: 10,050 (.75 hours per response).

NRC Forms 541 and 541A: 44,341 (3.3 hours per response).

NRC Forms 542 and 542A: 567 (.75 hours per response).

7. Abstract: NRC Forms 540, 541, and 542, together with their continuation pages, designated by the “A” suffix, provide a set of standardized forms to meet Department of Transportation (DOT), NRC, and State requirements. The forms were developed by NRC at the request of low-level waste industry groups. The forms provide uniformity and efficiency in the collection of information contained in manifests which are required to control transfers of low-level radioactive waste intended for disposal at a land disposal facility. NRC Form 540 contains information needed to satisfy DOT shipping paper requirements in 49 CFR part 172 and the waste tracking requirements of NRC in 10 CFR part 20. NRC Form 541 contains information needed by disposal site facilities to safely dispose of low-level waste and information to meet NRC and State requirements regulating these activities. NRC Form 542, completed by waste collectors or processors, contains information which facilitates tracking the identity of the waste generator. That tracking becomes more complicated when the waste forms, dimensions, or packagings are changed by the waste processor. Each container of waste shipped from a waste processor may contain waste from several different generators. The information provided on NRC Form 542 permits the States and Compacts to know the original generators of low-level waste, as authorized by the Low-Level Radioactive Waste Policy Amendments Act of 1985, so they can ensure that waste is disposed of in the appropriate Compact.

Submit, by May 10, 2004, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Brenda Jo. Shelton, U.S. Nuclear Regulatory Commission, T-5 F52, Washington, DC 20555-0001, by telephone at 301-415-7233, or by Internet electronic mail to INFOCOLLECTS@NRC.GOV.

Dated at Rockville, Maryland, this 5th day of March 2004.
For the Nuclear Regulatory Commission
Brenda Jo. Shelton,
NRC Clearance Officer, Office of the Chief Information Officer.

[FR Doc. 04-5434 Filed 3-10-04; 8:45 am]

BILLING CODE 7590-01-P